DEPARTMENT OF EDUCATION

National Institute on Disability and Rehabilitation Research (NIDRR)—Disability and Rehabilitation Research Projects and Centers Program—Rehabilitation Research and Training Centers (RRTCs)—Center on Employment Policy and Measurement

Catalog of Federal Domestic Assistance (CFDA) Number: 84.133B-4.

AGENCY: Office of Special Education and Rehabilitative Services, Department of Education.

ACTION: Notice of final priority.

SUMMARY: The Assistant Secretary for Special Education and Rehabilitative Services announces a priority for the Disability and Rehabilitation Research Projects and Centers Program administered by NIDRR. Specifically, this notice announces a priority for an RRTC on Employment Policy and Measurement. The Assistant Secretary may use this priority for competitions in fiscal year (FY) 2010 and later years. We take this action to focus research attention on areas of national need. We intend this priority to improve rehabilitation services and outcomes for individuals with disabilities.

DATES: Effective Date: This priority is effective August 9, 2010.

FOR FURTHER INFORMATION CONTACT: Marlene Spencer, U.S. Department of Education, 400 Maryland Avenue, SW., room 5133, Potomac Center Plaza (PCP), Washington, DC 20202-2700. Telephone: (202) 245-7532 or by e-mail: Marlene.Spencer@ed.gov.

If you use a telecommunications device for the deaf (TDD), call the Federal Relay Service (FRS), toll free, at 1-800-877-8339.

SUPPLEMENTARY INFORMATION: This notice of final priority is in concert with NIDRR's Final Long-Range Plan for FY 2005-2009 (Plan). The Plan, which was published in the Federal Register on February 15, 2006 (71 FR 8165), can be accessed on the Internet at the following site: http://www.ed.gov/about/offices/list/osers/nidrr/policy.html.

Through the implementation of the Plan, NIDRR seeks to: (1) Improve the quality and utility of disability and rehabilitation research; (2) foster an exchange of expertise, information, and training to facilitate the advancement of knowledge and understanding of the unique needs of traditionally underserved populations; (3) determine best strategies and programs to improve rehabilitation outcomes for underserved populations; (4) identify research gaps; (5) identify mechanisms of integrating research and practice; and (6) disseminate findings.

Purpose of Program: The purpose of the Disability and Rehabilitation Research Projects and Centers Program is to plan and conduct research, demonstration projects, training, and related activities, including international activities, to develop methods, procedures, and rehabilitation technology, that maximize the full inclusion and integration into society, employment, independent living, family support, and economic and social self-sufficiency of individuals with disabilities, especially individuals with the most severe disabilities, and to improve the effectiveness of services authorized under the Rehabilitation Act of 1973, as amended (Rehabilitation Act).

RRTC Program

The purpose of the RRTC program is to improve the effectiveness of services authorized under the Rehabilitation Act through advanced research, training, technical assistance, and dissemination activities in general problem areas, as specified by NIDRR. Such activities are designed to benefit rehabilitation service providers, individuals with disabilities, and the family members or other authorized representatives of individuals with disabilities. In addition, NIDRR intends to require all RRTC applicants to meet the requirements of the General Rehabilitation Research and Training Centers (RRTC) Requirements priority that it published in a notice of final priorities in the Federal Register on February 1, 2008 (73 FR 6132). Additional information on the RRTC program can be found at: http://www.ed.gov/rschstat/research/pubs/res-program.html#RRTC.

Statutory and Regulatory Requirements of RRTCs

RRTCs must—

• Carry out coordinated advanced programs of rehabilitation research;

• Provide training, including graduate, pre-service, and in-service training, to help rehabilitation personnel more effectively provide rehabilitation services to individuals with disabilities;

• Provide technical assistance to individuals with disabilities, their representatives, providers, and other interested parties;

• Disseminate informational materials to individuals with disabilities, their representatives, providers, and other interested parties; and

• Serve as centers of national excellence in rehabilitation research for individuals with disabilities, their representatives, providers, and other interested parties.

Applicants for RRTC grants must demonstrate in their applications how they will address, in whole or in part, the needs of individuals with disabilities from minority backgrounds.

Program Authority: 29 U.S.C. 762(g) and 764(b)(2).

Applicable Program Regulations: 34 CFR part 350.

We published a notice of proposed priority (NPP) for NIDRR's Disability and Rehabilitation Research Projects and Centers Program in the Federal Register on May 13, 2010 (75 FR 26952). The NPP included a background statement that described our rationale for the priority proposed in that notice.

There are no differences between the NPP and this notice of final priority (NFP) as discussed in the following section.

Public Comment: In response to our invitation in the NPP, we did not receive any substantive comments on the proposed priority.

Final Priority: The Assistant Secretary for Special Education and Rehabilitative Services announces a priority for a Rehabilitation Research and Training Center (RRTC) on Employment Policy and Measurement. The RRTC must conduct research, knowledge translation, training, dissemination, and technical assistance to advance the understanding of how government policies, and changes in policies, affect employment outcomes of individuals with disabilities and to expand the capacity of government agencies, other policy groups, and consumer organizations to produce consistent data related to the employment of individuals with disabilities. Under this priority, the RRTC must contribute to the following outcomes:

(a) Increased knowledge of government policies and programs that affect employment outcomes for individuals with disabilities. The RRTC must contribute to this outcome by—

(1) Conducting rigorous research on the ways in which policies, changes in policies, and the interaction of policies such as those reflected in the Workforce Investment Act, including the Vocational Rehabilitation (VR) State Grants program; the Social Security Disability Insurance and Supplemental Security Income programs; health care initiatives; and other Federal or State programs affect employment rates for individuals with disabilities. Examples of such policy topics include, but are not limited to, the interaction between income support programs, poverty, disability, and employment success; the interaction between requirements for the VR State Grants and Ticket to Work programs; and the policy barriers to successful transition from youth to adulthood for young people with disabilities;

(2) Assessing existing research findings and other materials such as agency documents or data to produce timely policy briefs on emerging topics related to employment of individuals with disabilities; and

(3) Identifying statistical methods that can be used to interpret and compare data from different programs and data sets that provide information on the employment of individuals with disabilities.

(b) Improved capacity to measure the employment outcomes of individuals with disabilities. The RRTC must contribute to this outcome by—

(1) Identifying or developing a framework that includes common measures and metrics that capture the different types of employment outcomes for individuals with disabilities, including wages, benefits, employment retention and re-entry, and opportunities for advancement, and that can be used to analyze and compare data across different programs; and

(2) Validating the new measures and metrics by collecting new data or analyzing existing data to determine the properties of these measures and metrics and their sensitivity to factors that are hypothesized to affect employment among people with disabilities.

(c) Increased incorporation of research findings from the RRTC project into practice or policy. The RRTC must contribute to this outcome by—

(1) Collaborating with stakeholder groups to develop, evaluate, or implement strategies to increase utilization of research findings;

(2) Conducting training and dissemination activities to facilitate the utilization of research findings by employers, policymakers, and individuals with disabilities; and

(3) Collaborating and sharing information with other agencies across the Federal Government through mechanisms such as the Interagency Committee on Disability Research.

In addition, the RRTC must—

(1) Establish an Interagency Advisory Group that includes, but is not limited to, representatives from the Rehabilitation Services Administration (RSA), the Office of Disability Employment Policy, the Social Security Administration, the Centers for Medicare and Medicaid Services, and other agencies, as necessary, to ensure that the policy topics address the issues of most concern across key agencies and to guide development of the measures' framework;

(2) Collaborate with appropriate NIDRR-funded grantees, including knowledge translation grantees and grantees involved with employment research; and

(3) Collaborate with relevant RSA grantees and NIDRR-funded Disability and Business Technical Assistance Centers.

Types of Priorities:When inviting applications for a competition using one or more priorities, we designate the type of each priority as absolute, competitive preference, or invitational through a notice in the Federal Register. The effect of each type of priority follows:

Absolute priority: Under an absolute priority, we consider only applications that meet the priority (34 CFR 75.105(c)(3)).

Competitive preference priority: Under a competitive preference priority, we give competitive preference to an application by (1) awarding additional points, depending on the extent to which the application meets the priority (34 CFR 75.105(c)(2)(i)); or (2) selecting an application that meets the priority over an application of comparable merit that does not meet the priority (34 CFR 75.105(c)(2)(ii)).

Invitational priority: Under an invitational priority, we are particularly interested in applications that meet the priority. However, we do not give an application that meets the priority a preference over other applications (34 CFR 75.105(c)(1)).

This notice does not preclude us from proposing additional priorities, requirements, definitions, or selection criteria, subject to meeting applicable rulemaking requirements.

Note: This notice does not solicit applications. In any year in which we choose to use this priority, we invite applications through a notice in the Federal Register.

Executive Order 12866: This notice has been reviewed in accordance with Executive Order 12866. Under the terms of the order, we have assessed the potential costs and benefits of this final regulatory action.

The potential costs associated with this final regulatory action are those resulting from statutory requirements and those we have determined as necessary for administering this program effectively and efficiently.

In assessing the potential costs and benefits—both quantitative and qualitative—of this final regulatory action, we have determined that the benefits of the final priority justify the costs.

Discussion of Costs and Benefits:The benefits of the Disability and Rehabilitation Research Projects and Centers Programs have been well established over the years in that similar projects have been completed successfully. This final priority will generate new knowledge through research and development.

Another benefit of this final priority is that the establishment of a new RRTC will improve the lives of individuals with disabilities. The new RRTC will disseminate and promote the use of new information that will improve the options for individuals with disabilities to obtain, retain, and advance in employment.

Accessible Format: Individuals with disabilities can obtain this document in an accessible format (e.g., braille, large print, audiotape, or computer diskette) by contacting the Grants and Contracts Services Team, U.S. Department of Education, 400 Maryland Avenue, SW., room 5075, PCP, Washington, DC 20202-2550. Telephone: (202) 245-7363. If you use a TDD, call the FRS, toll free, at 1-800-877-8339.

Electronic Access to This Document: You can view this document, as well as all other documents of this Department published in the Federal Register, in text or Adobe Portable Document Format (PDF) on the Internet at the following site: http://www.ed.gov/news/fedregister. To use PDF you must have Adobe Acrobat Reader, which is available free at this site.

Note: The official version of this document is the document published in the Federal Register. Free Internet access to the official edition of the Federal Register and the Code of Federal Regulations is available on GPO Access at: http://www.gpoaccess.gov/nara/index.html.

Dated: July 2, 2010.
Alexa Posny,
Assistant Secretary for Special Education and Rehabilitative Services.

[FR Doc. 2010-16673 Filed 7-7-10; 8:45 am]

BILLING CODE 4000-01-P